EXPORT-IMPORT BANK OF THE UNITED STATES

Open Meeting of the Advisory Committee of the Export-Import Bank of the United States

ACTION: Notice of open meeting.

Time and Place: Wednesday, September 17, 2014 from 9:00 a.m.-1:00 p.m. The meeting will be held at the Export-Import Bank in the Main Conference Room—11th floor, 811 Vermont Avenue NW., Washington, DC 20571.

SUMMARY: The Advisory Committee was established November 30, 1983, to advise the Export-Import Bank on its programs and to provide comments for inclusion in the reports of the Export-Import Bank of the United States to Congress.

Agenda: Subcommittee reports and deliberations regarding recommendations to the Bank and informational briefings by Bank staff.

Public Participation: The meeting will be open to public participation, and the last 10 minutes will be set aside for oral questions or comments. Members of the public may also file written statement(s) before or after the meeting. If members of the public wish to attend, they must contact Niki Shepperd by 3 p.m. on September 16, 2014. If any person wishes auxiliary aids (such as a sign language interpreter) or other special accommodations, please contact, by September 16, 2014, Niki Shepperd. Niki Shepperd can be reached at: 811 Vermont Avenue NW., Washington, DC 20571, at niki.shepperd@exim.gov.

FOR FURTHER INFORMATION CONTACT: For further information, contact Niki Shepperd, 811 Vermont Ave. NW., Washington, DC 20571, at niki.shepperd@exim.gov.

Lloyd Ellis,
Program Specialist, Office of the General Counsel.

[FR Doc. 2014-21328 Filed 9-8-14; 8:45 am]

BILLING CODE 6690-01-P